DEPARTMENT OF DEFENSE

Office of the Secretary

[Transmittal No. 23-49]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-49, Policy Justification, and Sensitivity of Technology.

Dated: October 15, 2024.
Aaron T. Siegel,
Alternate OSD Federal Register Liaison Officer, Department of Defense.

Transmittal No. 23-49

Notice of Proposed Issuance of Letter of Offer Pursuant to Section 36(b)(1) of the Arms Export Control Act, as amended

(i) Prospective Purchaser: Government of the Czech Republic

(ii) Total Estimated Value:

Major Defense Equipment * | $3.09 billion
Other | $2.53 billion
Total | $5.62 billion

Funding Source: National Funds

(iii) Description and Quantity or Quantities of Articles or Services under Consideration for Purchase:

Major Defense Equipment (MDE):

Twenty-four (24) F-35 Joint Strike Fighter Conventional Take Off and Landing (CTOL) Aircraft

Twenty-five (25) Pratt & Whitney F135-PW-100 Engines (24 installed, 1 spare)

Seventy (70) AIM-120C-8 Advanced Medium Range Air-to-Air Missiles (AMRAAM)

Three (3) AIM-120C-8 AMRAAM Guidance Sections

Eighty-six (86) GBU-53/B Small Diameter Bombs—Increment II (SDB-II) StormBreaker All-Up-Rounds (AUR)

Two (2) GBU-53 SDB-II Guided Test Vehicles (GTV)

Three (3) GBU-53 SDB-II Captive Carry Reliability Trainers (CCRT)

Twelve (12) Mk-84 General Purpose 2,000-lb Bombs or BLU-109 2,000-lb Penetrator Bombs for the GBU-31

Twelve (12) KMU-556/KMU-557 Joint Direct Attack Munition (JDAM) Tail Kits for the GBU-31

Fifty (50) AIM-9X Block II/II+ Tactical Sidewinder Missiles

Ten (10) AIM-9X Block II Tactical Sidewinder Guidance Units

Eighteen (18) AIM-9X Block II Tactical Sidewinder Captive Air Training Missiles (CATM)

Four (4) AIM-9X Block II CATM Guidance Units

Non-MDE:

Also included are AIM-120 AMRAAM CATMs, control section spares, and containers; AIM-9 multi-purpose/dummy air training missiles and containers; DSU-41B Active Optical Target Detectors; Joint Direct Attack Munition (JDAM) trainer tail kits; FMU-139 Joint Programmable Fuzes; AN/PYQ-10 Simple Key Loaders (SKL); ALE-70 Radio Frequency Countermeasures (RFCM) Transmitters; Identification Friend or Foe (IFF) equipment; electronic warfare (EW) data and Reprogramming Lab support; impulse cartridges, chaff, and flares; Common Munitions Built-In-Test (BIT)/Reprogramming Equipment (CMBRE); Cartridge Actuated Devices/Propellant Actuated Devices (CAD/PAD); Contractor Logistics Support (CLS); classified software and software development, delivery, and integration support; transportation, ferry, and refueling support; ammunition and weapons components; aircraft and munitions support and support equipment; integration and test support and equipment; aircraft engine Component Improvement Program (CIP) support; secure communications, precision navigation, and cryptographic equipment; spare and repair parts, consumables, accessories, and repair and return support; in-country facilities and construction support; major and minor modifications, maintenance, and maintenance support; classified and unclassified personnel training and training gear and equipment; classified and unclassified publications and technical documents; studies and surveys; U.S. Government and engineering, technical, and logistics support services; and other related elements of logistical and program support.

(iv) Military Department: Air Force (EZ-D-SAB, EZ-D-YAC, EZ-D-YAD); Navy (EZ-P-LCS, EZ-P-AAA)

(v) Sales Commission, Fee, etc., Paid, Offered, or Agreed to be Paid: None known at this time

(vi) Sensitivity of Technology Contained in the Defense Article or Defense Services Proposed to be Sold: See Attached Annex

(vii) Date Report Delivered to Congress: June 29, 2023

* As defined in Section 47(6) of the Arms Export Control Act.

POLICY JUSTIFICATION

Czech Republic—F-35 and Munitions

The Government of the Czech Republic has requested to buy twenty-four (24) F-35 Joint Strike Fighter Conventional Take Off and Landing (CTOL) Aircraft; twenty-five (25) Pratt & Whitney F135-PW-100 Engines (24 installed, 1 spare); seventy (70) AIM-120C-8 Advanced Medium Range Air-to-Air Missiles (AMRAAM); three (3) AIM-120C-8 AMRAAM Guidance Sections; eighty-six (86) GBU-53/B Small Diameter Bombs—Increment II (SDB-II) StormBreaker All-Up-Rounds (AUR); two (2) GBU-53 SDB-II Guided Test Vehicles (GTV); three (3) GBU-53 SDB-II Captive Carry Reliability Trainers (CCRT); twelve (12) Mk-84 General Purpose 2,000-lb Bombs or BLU-109 2,000-lb Penetrator Bombs for the GBU-31; twelve (12) KMU-556/KMU-557 Joint Direct Attack Munition (JDAM) Tail Kits for the GBU-31; fifty (50) AIM-9X Block II/II+ Tactical Sidewinder Missiles; ten (10) AIM-9X Block II Tactical Sidewinder Guidance Units; eighteen (18) AIM-9X Block II Tactical Sidewinder Captive Air Training Missiles (CATM); and four (4) AIM-9X Block II CATM Guidance Units. Also included are AIM-120 AMRAAM CATMs, control section spares, and containers; AIM-9 multi-purpose/dummy air training missiles and containers; DSU-41B Active Optical Target Detectors; Joint Direct Attack Munition (JDAM) trainer tail kits; FMU-139 Joint Programmable Fuzes; AN/PYQ-10 Simple Key Loaders (SKL); ALE-70 Radio Frequency Countermeasures (RFCM) Transmitters; Identification Friend or Foe (IFF) equipment; electronic warfare (EW) data and Reprogramming Lab support; impulse cartridges, chaff, and flares; Common Munitions Built-In-Test (BIT)/Reprogramming Equipment (CMBRE); Cartridge Actuated Devices/Propellant Actuated Devices (CAD/PAD); Contractor Logistics Support (CLS); classified software and software development, delivery, and integration support; transportation, ferry, and refueling support; ammunition and weapons components; aircraft and munitions support and support equipment; integration and test support and equipment; aircraft engine Component Improvement Program (CIP) support; secure communications, precision navigation, and cryptographic equipment; spare and repair parts, consumables, accessories, and repair and return support; in-country facilities and construction support; major and minor modifications, maintenance, and maintenance support; classified and unclassified personnel training and training gear and equipment; classified and unclassified publications and technical documents; studies and surveys; U.S. Government and engineering, technical, and logistics support services; and other related elements of logistical and program support. The estimated total cost is $5.62 billion.

This proposed sale will support the foreign policy and national security objectives of the United States by helping to improve the security of a North Atlantic Treaty Organization (NATO) Ally that is a force for political stability and economic progress in Europe.

The proposed sale will improve the Czech Republic's defense capabilities as well as support NATO operations by guarding against modern threats and maintaining a constant presence in the region. The Czech Republic will have no difficulty absorbing these articles and services into its armed forces.

The proposed sale of this equipment and support will not alter the basic military balance in the region.

The principal contractors will be Lockheed Martin Aeronautics Company, Fort Worth, TX; Raytheon Missiles and Defense, Tucson, AZ; and The Boeing Company, St. Louis, MO. The purchaser typically requests offsets. Any offset agreement will be defined in negotiations between the purchaser and the contractor.

Implementation of this proposed sale will not require the assignment of any additional U.S. Government or contractor representatives to the Czech Republic.

There will be no adverse impact on U.S. defense readiness as a result of this proposed sale.

Transmittal No. 23-49

Notice of Proposed Issuance of Letter of Offer Pursuant to Section 36(b)(1) of the Arms Export Control Act

Annex

Item No. vii

(vii) Sensitivity of Technology:

1. The F-35A Conventional Take Off and Landing (CTOL) aircraft is a single seat, single engine, all-weather, stealth, fifth-generation multirole aircraft. It contains sensitive technology including a low observable airframe/outer mold line, the Pratt and Whitney F135 engine, AN/APG-81 radar, an integrated core processor central computer, a mission systems/electronic warfare suite, a multiple sensor suite, and technical data and documentation and associated software. Sensitive elements of the F-35A are also included in operational flight and maintenance trainers. Sensitive and classified elements of the F-35A CTOL aircraft include hardware, accessories, components, and associated software for the following major subsystems:

a. The Pratt & Whitney F135 engine is a single 40,000-lb thrust class engine designed for the F-35 and assures highly reliable, affordable performance. The engine is designed to be utilized in all F-35 variants, providing unmatched commonality and supportability throughout the worldwide base of F-35 users.

b. The AN/APG-81 Active Electronically Scanned Array (AESA) is a high processing power and high transmission power electronic array capable of detecting air and ground targets from a greater distance than mechanically scanned array radars. It also contains a synthetic aperture radar (SAR), which creates high-resolution ground maps and provides both weather data to the pilot and air and ground tracks to the mission system, the latter of which is used as a component to fuse sensor data by the mission system.

c. The Electro-Optical Targeting System (EOTS) provides long-range detection and tracking, as well as an infrared search and track (IRST) and forward-looking infrared (FLIR) capability for precision tracking, weapons delivery, and bomb damage assessment (BDA). The EOTS replaces multiple separate internal or podded systems typically found on legacy aircraft.

d. The Electro-Optical Distributed Aperture System (EODAS) provides the pilot with full spherical coverage for air-to-air and air-to-ground threat awareness, day/night vision enhancements, a fire control capability and precision tracking of wingmen and friendly aircraft. The EODAS provides data directly to the pilot's helmet as well as the mission system.

e. The F-35 Electronic Warfare (EW) system is a reprogrammable, integrated system that provides radar warning and electronic support measures (ESM) along with a fully integrated countermeasures (CM) system. The EW system is the primary subsystem used to enhance situational awareness, targeting support, and self-defense through the search, intercept, and location and identification of in-band emitters and to automatically counter infrared (IR) and radio frequency (RF) threats.

f. The F-35 Command, Control, Communications, Computers and Intelligence/Communications, Navigation, and Identification (C4I/CNI) system provides the pilot with unmatched connectivity to flight members, coalition forces, and the battlefield. It is an integrated subsystem designed to provide a broad spectrum of secure, anti-jam voice and data communications, precision radio navigation and landing capability, self-identification, beyond visual range target identification, and connectivity to off-board sources of information. It also includes an inertial navigation and global positioning system (GPS) for precise location information. The functionality is tightly integrated within the mission system to enhance efficiency.

g. The F-35 C4I/CNI system includes two data links: the Multi-Function Advanced Data Link (MADL) and Link-16. The MADL is designed specifically for the F-35 and allows for stealthy communications between F-35s. Link-16 is an advanced command, control, communications, and intelligence (C3I) system incorporating jam-resistant, digital communication links for exchange of near real-time tactical information, including both data and voice, among air, ground, and sea elements. It provides the warfighter key theater functions such as surveillance, identification, air control, weapons engagement coordination, and direction for all services and allied forces. Link-16 equipment allows the F-35 to communicate with legacy aircraft using widely-distributed J-series message protocols.

h. The F-35 Autonomic Logistics Global Sustainment (ALGS) provides a fully integrated logistics management solution. ALGS integrates a number of functional areas, including supply chain management, repair, support equipment, engine support, and training. The ALGS infrastructure employs a state-of-the-art information system that provides real-time, decision-worthy information for sustainment decisions by flight line personnel. Prognostic health monitoring technology is integrated with the air system and is crucial to predictive maintenance of vital components.

i. The F-35 Autonomic Logistics Information System (ALIS) provides an intelligent information infrastructure that binds all the key concepts of ALGS into an effective support system. ALIS establishes the appropriate interfaces among the F-35, the warfighter, the training system, government information technology (IT) systems, and supporting commercial enterprise systems. Additionally, ALIS provides a comprehensive tool for data collection and analysis, decision support, and action tracking.

j. The F-35 Training System includes several training devices to provide integrated training for pilots and maintainers. The pilot training devices include a Full Mission Simulator (FMS) and Deployable Mission Rehearsal Trainer (DMRT). The maintenance training devices include an Aircraft Systems Maintenance Trainer (ASMT), Ejection System Maintenance Trainer (ESMT), Outer Mold Line (OML) Lab, Flexible Linear Shaped Charge (FLSC) Trainer, F135 Engine Module Trainer, and Weapons Loading Trainer (WLT). The F-35 Training System can be integrated, where both pilots and maintainers learn in the same Integrated Training Center (ITC). Alternatively, the pilots and maintainers can train in separate facilities (Pilot Training Center and Maintenance Training Center).

k. Other subsystems, features, and capabilities include the F-35's low observable air frame, Integrated Core Processor (ICP) Central Computer, Helmet Mounted Display System (HMDS), Pilot Life Support System (LSS), Off-Board Mission Support (OMS) System, and publications and maintenance manuals. The HMDS provides a fully sunlight readable biocular display presentation of aircraft information projected onto the pilot's helmet visor. The use of a night vision camera integrated into the helmet eliminates the need for separate Night Vision Goggles. The Pilot LSS provides a measure of pilot chemical, biological, and radiological protection through use of an On-Board Oxygen Generating System (OBOGS). OBOGS takes the Power and Thermal Management System (PTMS) air and enriches it by removing gases (mainly nitrogen) by adsorption, thereby increasing the concentration of oxygen in the product gas and supplying breathable air to the pilot. An escape system provides additional protection to the pilot. The OMS provides a mission planning, mission briefing, and a maintenance, intelligence, and tactical debriefing platform for the F-35.

2. The AIM-120C-8 Advanced Medium Range Air-to-Air Missile (AMRAAM) is a supersonic, air-launched, aerial intercept guided missile featuring digital technology and micro-miniature, solid-state electronics. AMRAAM capabilities include look-down/shoot-down, multiple launches against multiple targets, resistance to electronic countermeasures, and interception of high- and low-flying and maneuvering targets. This potential sale will include Captive Air Training Missiles (CATM) as well as AMRAAM guidance sections, propulsion sections, control sections, telemetry systems, and warhead spares.

3. The GBU-53/B Small Diameter Bomb—Increment II (SDB-II) StormBreaker All-Up-Round (AUR) is a 250-lb class precision-guided, semiautonomous, conventional air-to-ground munition used to defeat moving targets from standoff range and capable of operating in adverse weather. The SDB-II has deployable wings and fins and uses Global Positioning System/Inertial Navigation System (GPS/INS) guidance, network-enabled datalink (Link-16 and UHF), and a multi-mode seeker (millimeter wave radar, imaging infrared, semi-active laser) to autonomously search, acquire, track, and defeat a variety of moving or stationary targets, at standoff range or close in, in a variety of attack modes. The SDB-II employs a multi-effects warhead (blast, fragmentation, and shaped-charge) for maximum lethality against armored and soft targets. The SDB-II weapon system consists of the tactical AUR weapon, a 4-place common carriage system, and mission planning system munitions application program (MAP). This potential sale includes SDB-II Guided Test Vehicles (GTV) and Captive Carry Reliability Trainers (CCRT).

4. Joint Direct Attack Munitions (JDAM) consist of a bomb body paired with a warhead-specific tail kit containing an Inertial Navigation System (INS)/Global Positioning System (GPS) guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (e.g., FLIR, radar, etc.) during captive carry, or from a third-party source via manual or automated aircrew cockpit entry. This potential sale will include either of the following variants as well as JDAM trainer tail kits.

a. The GBU-31v1 is a 2,000-lb JDAM, consisting of a KMU-556 tail kit and BLU-117 or Mk-84 bomb body.

b. The GBU-31v3 is a 2,000-lb JDAM, consisting of a KMU-557 tail kit and BLU-109 bomb body.

5. The AIM-9X Block II and Block II+ Tactical Sidewinder Missiles represent a substantial increase in missile acquisition and kinematics performance over the AIM-9M and replaces the AIM-9X Block I Missile configuration. The missiles include a high off-boresight seeker, enhanced countermeasure rejection capability, a low drag and high angle of attack airframe, and the ability to integrate with a helmet mounted cueing system. The software algorithms are the most sensitive portion of the AIM-9X missile. The software continues to be modified via a System Improvement Program (SIP) to improve counter-countermeasure capabilities. This potential sale will include AIM-9X CATMs, multipurpose/dummy training missiles, guidance and control section spares, containers, and DSU-41B Active Optical Target Detectors (AOTD).

6. The FMU-139 Joint Programmable Fuze (JPF) is a multi-delay, multi-arm, and proximity sensor compatible with general purpose blast, frag, and hardened-target penetrator weapons. The JPF settings are cockpit selectable in flight when used with numerous precision-guided weapons.

7. The AN/PYQ-10 Simple Key Loader is a portable, hand-held device used for securely receiving, storing, and transferring data between compatible cryptographic and communications equipment.

8. The ALE-70 is a radio frequency countermeasure (RFCM) transmitter dispenser system designed to fit into the F-35 Joint Strike Fighter (JSF) aircraft. The ALE-70 consists of the reel and launcher assembly, tow line, T-1687 countermeasure transmitter, and electronic and mechanical subassemblies, along with canisters and explosive cartridges that deploy decoys to provide self-protection against radar guided missiles for aircraft.

9. The Common Munitions Built-In-Test (BIT)/Reprogramming Equipment (CMBRE) is supporting equipment used to interface with weapon systems to initiate and report BIT results and both upload and download flight software. CMBRE supports multiple munitions platforms with a range of applications that perform preflight checks, conduct periodic maintenance checks, declassify munitions memory, and load Operational Flight Program (OFP) data, munitions mission planning data, and Global Positioning System (GPS) cryptographic keys.

10. The Electronic Warfare Reprogramming Lab is used by U.S. Government engineers in the reprogramming and creation of shareable Mission Data Files for foreign F-35 customers.

11. The highest level of classification of defense articles, components, and services included in this potential sale is SECRET.

12. If a technologically advanced adversary were to obtain knowledge of the specific hardware and software elements, the information could be used to develop countermeasures that might reduce weapon system effectiveness or be used in the development of a system with similar or advanced capabilities.

13. A determination has been made that the Czech Republic can provide substantially the same degree of protection for the sensitive technology being released as the U.S. Government. This sale is necessary in furtherance of the U.S. foreign policy and national security objectives outlined in the Policy Justification.

14. All defense articles and services listed in this transmittal have been authorized for release and export to the Government of the Czech Republic.

[FR Doc. 2024-24124 Filed 10-17-24; 8:45 am]

BILLING CODE 6001-FR-P